DEPARTMENT OF TRANSPORTATION

Maritime Administration

[Docket No. MARAD-2025-0070]

Request for Comments on the Renewal of a Previously Approved Collection: Application for Participation in the Maritime Security Program

AGENCY: Maritime Administration, Department of Transportation.

ACTION: Notice.

SUMMARY: The Maritime Administration (MARAD) invites public comments on our intention to request approval from the Office of Management and Budget (OMB) to renew an information collection in accordance with the Paperwork Reduction Act of 1995. The proposed collection, OMB 2133-0525 (Application for Participation in the Maritime Security Program) is being revised to align with current statutory authorities and industry practices. Proposed changes include instructions for electronic submission of applications, updates to statutory citations, removal of commercial references that are no longer relevant to the Maritime Security Program (such as capacity of LASH vessels), and changes to certain collected information that better reflects current maritime business practice. We are required to publish this notice in the Federal Register to obtain comments from the public and affected agencies.

DATES: Comments must be submitted on or before July 14, 2025.

ADDRESSES: You may submit comments identified by Docket No. MARAD-2025-0070 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Richard Wanerman, 202-366-2306, Office of Sealift Support, Room W25-317, Mail Stop 1, Maritime Administration, U.S. Department of Transportation, 1200 New Jersey Avenue SE, Washington, DC 20590, Email: Richard.Wanerman@dot.gov.

SUPPLEMENTARY INFORMATION:

Title: Application for Participation in the Maritime Security Program.

OMB Control Number: 2133-0525.

Type of Request: Revision of a previously approved collection.

Abstract: 46 U.S.C. 53101-11 provides for the enrollment of qualified vessels into the Maritime Security Fleet. Applications and amendments are used to select vessels for the Fleet.

Respondents: Operators of oceangoing U.S.-registered commercial vessels.

Affected Public: Business or other for-profit.

Estimated Number of Respondents: 15.

Estimated Number of Responses: 212.

Estimated Hours per Response: 1-6 hours.

Annual Estimated Total Annual Burden Hours: 308.

Frequency of Response: Monthly/Annually.

(Authority: The Paperwork Reduction Act of 1995; 44 U.S.C. Chapter 35, as amended; and 49 CFR 1.49.)

By Order of the Maritime Administration.
T. Mitchell Hudson, Jr.,
Secretary, Maritime Administration.

[FR Doc. 2025-08313 Filed 5-12-25; 8:45 am]

BILLING CODE 4910-81-P